DEPARTMENT OF THE INTERIOR

Fish and Wildlife Service

[FWS-R5-R-2009-N185; BAC-4311-K9-S3]

Nomans Land Island National Wildlife Refuge, Town of Chilmark, MA

AGENCY: Fish and Wildlife Service, Interior.

ACTION: Notice of availability of draft comprehensive conservation plan and environmental assessment; request for comments.

SUMMARY: We, the U.S. Fish and Wildlife Service (Service), announce the availability of the draft comprehensive conservation plan (CCP) and draft environmental assessment (EA) for Nomans Land Island National Wildlife Refuge (NWR) for a 30-day public review and comment period. In this draft CCP/EA, we describe three alternatives, including our Service-preferred Alternative C, for managing this refuge for the next 15 years. Also available for public review and comment is the draft wilderness review, which is included as Appendix C in the draft CCP/EA.

DATES: To ensure our consideration of your written comments, please send them by June 28, 2010. We will also hold at least one public meeting in Chilmark, Massachusetts, during the 30-day review period to receive comments and provide information on the draft plan. We will announce and post details about public meetings in local news media, via our project mailing list, and on our regional planning Web site, http://www.fws.gov/northeast/planning/nomansland/ccphome.html.

ADDRESSES: Send your comments or requests for more information by any of the following methods.

Agency Web site: View or download the draft document at http://www.fws.gov/northeast/planning/nomansland/ccphome.html.

Electronic mail: northeastplanning@fws.gov. Include “Nomans Land Island NWR CCP/EA” in the subject line of the message.

U.S. Postal Service: Eastern Massachusetts NWR Complex, 73 Weir Hill Road, Sudbury, MA 01776.

In-Person Drop-off, Viewing, or Pickup: Call 978-443-4661 to make an appointment during regular business hours at the above address.

Facsimile: Attn: Carl Melberg, 978-443-2898.

FOR FURTHER INFORMATION CONTACT: Carl Melberg, Planning Team Leader, at 978-443-4661 extension 32.

SUPPLEMENTARY INFORMATION:

Introduction

With this notice, we continue the CCP process for Nomans Land Island NWR in Chilmark, Massachusetts, which we started with the notice of intent (NOI) that was published in the Federal Register (73 FR 76376) on December 16, 2008. We prepared the draft CCP in compliance with the National Environmental Policy Act of 1969 (42 U.S.C. 4321 et seq.) (NEPA) and the National Wildlife Refuge System Administration Act of 1966 (16 U.S.C. 668dd-668ee), as amended by the National Wildlife Refuge System Improvement Act of 1997 (Act). This refuge is one of eight refuges in the Eastern Massachusetts NWR Complex.

Nomans Land Island NWR is a 628-acre roadless island located approximately 3 miles south of Martha's Vineyard, Massachusetts. It was established for the conservation and management of migratory birds. The Service first began managing a portion of the eastern side of the island in 1975 as an “overlay” refuge under a Joint Management Agreement between the U.S. Department of the Interior and the U.S. Department of the Navy (DoN), while it was still under DoN ownership. In 1998, management responsibility for the island was transferred to the Service and became Nomans Land Island NWR.

This island has a unique history, from use by Native Americans as a summer camp, to sheep grazing when the island was privately owned in the 1800s, to use as a bombing range to train DoN pilots during and after World War II. The refuge provides diverse habitats that include intertidal, freshwater wetland, grassland and shrubland habitats, and serves an important role for nesting landbirds and colonial waterbirds and as a stopover habitat for migratory birds and raptors such as the peregrine falcon.

Public access has never been allowed on the refuge due to unexploded ordnance (UXO), therefore, none of the six priority uses of the National Wildlife Refuge System (NWRS) established by Congress in the Act occur on the island. Off-site interpretation opportunities exist with potential partners such as the Town of Chilmark, the Wampanoag Tribe of Gay Head (Aquinnah) (the Tribe), and the Aquinnah Cultural Center.

Background

The CCP Process

The Act requires us to develop a CCP for each national wildlife refuge. The purpose for developing CCPs is to provide refuge managers with 15-year plans for achieving refuge purposes and the mission of the NWRS, in conformance with sound principles of fish and wildlife management, conservation, legal mandates, and our policies. In addition to outlining broad management direction on conserving wildlife and their habitats, CCPs identify priority wildlife-dependent recreational opportunities available to the public, including opportunities for hunting, fishing, wildlife observation and photography, and environmental education and interpretation. We will review and update each CCP at least every 15 years, in accordance with the Act.

The Wilderness Review

Service planning policy (602 FW 3) requires that we conduct a wilderness review in association with the development of a refuge CCP, pursuant to the Wilderness Act (16 U.S.C. 1131 et seq.). The purpose of the wilderness review is to identify and describe wilderness values and evaluate appropriate management alternatives. The wilderness review process has three phases: Inventory, study, and recommendation. After first identifying lands and waters that meet the minimum criteria for wilderness during the inventory phase, the resulting wilderness study areas (WSAs) are further evaluated to determine if they merit recommendation from the Service to the Secretary of the Interior (Secretary) for inclusion in the National Wilderness Preservation System (NWPS).

Public Outreach

There is a long planning history for this CCP. On February 24, 1999, a NOI to prepare a CCP and environmental impact statement (EIS) for what was then known as Great Meadows NWR Complex, of which Nomans Land Island NWR is a part, was printed in the Federal Register. In 2001, we determined it was not feasible to prepare one plan for eight refuges, and on February 15, 2001, another notice was printed in the Federal Register indicating that a CCP/EIS would be prepared for Monomoy, Nantucket, and Nomans Land Island NWRs. However, no work was done on those plans at that time. On December 13, 2004, another NOI was printed in the Federal Register to indicate that the planning process for Nomans Land Island NWR and Monomoy NWR was being re-initiated, and that comments already received under previous notices would be considered. In 2008, because of the different issues facing the refuges, the Service determined it to be more efficient to proceed separately with the Nomans Land Island NWR CCP/EA.

Scoping began in 1999 with public meetings and the solicitation of public comments via planning workbooks. In April 2005, two scoping meetings were held in Chilmark, Massachusetts. Interagency, stakeholder, and public scoping was re-initiated through partner and public meetings held on October 14, 2008, at the Chilmark Library, followed by a comment period ending November 14, 2008. Federal and State natural resource agency staff, current and potential refuge partners, and members of the general public attended these meetings. During these meetings, we asked attendees specific questions about their views on the refuge's wildlife and habitat values, how they view the refuge, and their suggestions for future refuge management.

Some of the key issues we identified were the management of migratory birds and their habitats including shrubland, rocky shoreline and wetlands, coordination with the DoN to ensure safety, UXO removal, enforcement of no public access, better communication with the public about the refuge and our management activities, and protection of cultural resources.

CCP Alternatives, Including Selected Alternative

We developed three management alternatives based on the purposes for establishing the refuge, its vision and goals, and the issues and concerns identified by the public, State agencies, the Tribe, and the Service during the planning process. The alternatives have some actions in common, such as protecting and monitoring fish and wildlife species, managing the extensive shrubland habitat, controlling invasive plants and wildlife diseases, protecting cultural resources, planning for limited Tribal use of the island, developing a partnership agreement with the Tribe, maintaining a no public use policy, and distributing refuge revenue sharing payments to the Town of Chilmark.

Other actions distinguish the alternatives. The draft CCP/EA describes the alternatives in detail, and relates them to the issues and concerns identified. Highlights are as follows:

Alternative A (Current Management)

This alternative is the “No Action” alternative required by NEPA. Alternative A defines our current management activities, and serves as the baseline against which to compare the other alternatives. Our current habitat management focuses on allowing natural processes and prescribed burns conducted by the DoN for UXO removal operations to maintain the diversity of the maritime shrubland habitat that supports migratory and nesting birds of conservation concern such as the eastern towhee and gray catbird. Other than some invasive species management, only natural processes affect the ponds and wetlands on the refuge that provide important breeding habitat for Virginia rail and other species of conservation concern.

We would continue to maintain the 15 acres of herbaceous upland and 100 acres of intertidal beach and rocky shore to provide suitable habitat conditions for nesting American oystercatcher, piping plover, and terns, as well as other shorebird, colonial waterbird, and seabird species identified as species of conservation concern. We would continue to enforce the no public access policy along the shoreline to prevent public use activities that may pose safety risks due to UXO.

We would continue to work with our partners to monitor these habitats for invasive plants and disease, and we would treat the vegetation to fight invasive species if we have available funding and staffing. Our biological monitoring and inventory program and habitat and trail management would continue at its current minimal level, and would be limited by safety concerns and UXO removal conducted by the DoN.

We would continue to protect cultural resources by strengthening our relationships with the Tribe and the Chilmark Historical Commission. We would consult with the DoN Regional Archeologist prior to any ground-disturbing activities.

Our visitor services programs would not change, as minimal off-site interpretation now occurs via our Web site and virtual tour. Our staffing and facilities would remain the same. Existing staff for the refuge complex would remain in place, and the headquarters would remain at the Sudbury, Massachusetts office. No new staff would be hired specifically for this refuge.

Alternative B (Enhanced Management and Habitat Diversity)

In this alternative, the Service takes a more active role in managing habitats, research, monitoring, and inventorying its priority natural and cultural resources.

We would coordinate with the DoN on all management activities and provide additional trails for monitoring and management access throughout the island. Under this alternative, we would establish a fire-based management regime with prescribed burns to maintain 400 acres of desired shrubland habitat conditions in order to support focal nesting bird species and provide critical shrubland stop-over habitat for migrating landbirds and butterflies. We would also explore the potential to introduce the New England cottontail on the refuge in support of regional recovery efforts for this species of State and regional conservation concern.

We would manage the 15 acres of herbaceous upland vegetation that provides habitat for shorebirds and terns, and the 100 acres of marine intertidal beach and rocky shore habitats to benefit marine mammals and nesting and migrating shorebirds. We would manage the 100 to 150 acres of freshwater wetland communities to support breeding marsh birds and native plant and animal communities, and control non-native invasive species and predators as necessary to support nesting focal species of conservation concern. We would create a habitat map for the refuge, and conduct inventories, research, and monitoring on rare and special concern species.

Since no public use is allowed, we would increase visitor services programming off-site with environmental education and interpretation by developing partnerships with the Tribe, Town of Chilmark, and the Aquinnah Cultural Center. We would work with partners to conduct shoreline surveys for archeological resources at risk from erosion and develop protocols for collection and repository of artifacts and remains.

We would increase refuge complex staff by three new positions—Biological, Visitor Services, and Law Enforcement. Under this alternative, we would focus on strengthening partnerships with the Tribe for ceremonial access. We would also increase access and management throughout the refuge with the cooperation of the DoN.

Alternative C (Natural Processes Emphasis-Service Preferred Alternative)

This alternative is the one we propose as the best way to manage this refuge over the next 15 years. It includes an array of less active management actions that, in our professional judgment, works best toward achieving the refuge purposes, our vision and goals, and the goals of other State and regional conservation plans. We also believe it most effectively addresses the key issues that arose during the planning process. Lastly, it is the most realistic, given the relatively modest increase in staffing and funding that is anticipated over the next 15 years.

This alternative acknowledges that the refuge meets the minimum criteria for a WSA. Under this alternative, a Nomans Land Island WSA would be recommended as suitable for designation and inclusion in the NWPS. The analysis of environmental consequences is based on the assumption that Congress would accept the recommendation and designate Nomans Land Island NWR as wilderness. The Nomans Land Island WSA would be managed according to the provisions of the Wilderness Act and Service Wilderness Stewardship Policy (610 FW 1-3). The wilderness area would be managed to accomplish refuge purposes and the NWRS mission, while also preserving wilderness character and natural values for future generations. Use of motorized vehicles, motorized equipment, mechanical transport on the island would be allowed for emergency purposes, and when necessary to meet minimum requirements for the administration of the area as wilderness, and to accomplish refuge purposes. The island would continue to be accessible by motorboat.

The information and analyses in the CCP/EA would be used to compile a wilderness study report and legislative EIS to accompany the wilderness recommendation. Since Congress has reserved the authority to make final decisions on wilderness designation, the wilderness recommendation is a preliminary administrative determination that would receive further review and possible modification by the Director, the Secretary, or the President. We would conduct some survey, inventory, research, and monitoring of focal species such as common and roseate terns, and would implement necessary measures to protect any colonies larger than 50 pairs. We would work with partners on specific priority efforts, such as analyzing the feasibility of New England cottontail introduction. We would track vegetation changes and invasive species, and control those that threaten healthy ecosystems. Under Alternative C, we would primarily allow coastal processes of wind and wave action to shape the refuge habitats, but would consider using fire to maintain shrubland stopover habitat for migratory birds, if necessary. We would focus our efforts to provide quality habitat on the refuge for landbirds, including raptors, during fall migration.

This alternative resembles Alternative A in its minimal management approach, refuge administration, and facilities. We would provide oversight and coordination to the DoN contaminant and UXO cleanup, pursue a partnership agreement with the Tribe that provides, in part, access to the refuge for ceremonial purposes, and work with partners on cultural resource protection.

As with Alternative B, we would enhance visitor services to provide additional off-site opportunities for interpretation and communication, since no public access is allowed on the refuge. Staffing would remain the same as in Alternative A.

Public Meetings

The public will have the opportunity to provide input at one public meeting in Chilmark, Massachusetts. We will release mailings, news releases, and announcements electronically and provide information about opportunities for public review and comment on our Web site and in local newspapers with the contact information below. You can obtain the schedule from the planning team leader or project leader (see ADDRESSES). You may also submit comments anytime during the planning process by mail, electronic mail, or facsimile (see ADDRESSES). For specific information, including dates, times, and locations, contact the planning team leader (see ADDRESSES) or visit our Web site at http://www.fws.gov/northeast/planning/nomansland/ccphome.html.

Public Availability of Comments

Before including your address, phone number, electronic mail address, or other personal identifying information in your comments, you should be aware that your entire comment—including your personal identifying information—may be made available to the public at any time. While you can ask us in your comment to withhold your personal identifying information from public review, we cannot guarantee that we will be able to do so.

Dated: April 26, 2010.
James G. Geiger,
Acting Regional Director, Northeast Region, U.S. Fish and Wildlife Service, Hadley, Massachusetts.

[FR Doc. 2010-12669 Filed 5-27-10; 8:45 am]

BILLING CODE 4310-55-P